Title 3—

The President

Proclamation 7373 of November 9, 2000

Boundary Enlargement of the Craters of the Moon National Monument

By the President of the United States of America

A Proclamation

The Craters of the Moon National Monument was established on May 2, 1924 (Presidential Proclamation 1694), for the purpose of protecting the unusual landscape of the Craters of the Moon lava field. This “lunar” landscape was thought to resemble that of the Moon and was described in the Proclamation as “weird and scenic landscape peculiar to itself.” The unusual scientific value of the expanded monument is the great diversity of exquisitely preserved volcanic features within a relatively small area. The expanded monument includes almost all the features of basaltic volcanism, including the craters, cones, lava flows, caves, and fissures of the 65-mile-long Great Rift, a geological feature that is comparable to the great rift zones of Iceland and Hawaii. It comprises the most diverse and geologically recent part of the lava terrain that covers the southern Snake River Plain, a broad lava plain made up of innumerable basalt lava flows that erupted during the past 5 million years.

Since 1924, the monument has been expanded and boundary adjustments made through four presidential proclamations issued pursuant to the Antiquities Act (34 Stat. 225, 16 U.S.C. 431). Presidential Proclamation 1843 of July 23, 1928, expanded the monument to include certain springs for water supply and additional features of scientific interest. Presidential Proclamation 1916 of July 9, 1930, Presidential Proclamation 2499 of July 18, 1941, and Presidential Proclamation 3506 of November 19, 1962, made further adjustments to the boundaries. In 1996, a minor boundary adjustment was made by section 205 of the Omnibus Parks and Public Lands Management Act of 1996 (Public Law 104-333, 110 Stat. 4093, 4106).

This Proclamation enlarges the boundary to assure protection of the entire Great Rift volcanic zone and associated lava features, all objects of scientific interest. The Craters of the Moon, Open Crack, Kings Bowl, and Wapi crack sets and the associated Craters of the Moon, Kings Bowl, and Wapi lava fields constitute this volcanic rift zone system. Craters of the Moon is the largest basaltic volcanic field of dominantly Holocene age (less than 10,000 years old) in the conterminous United States. Each of the past eruptive episodes lasted up to several hundred years in duration and was separated from other eruptive episodes by quiet periods of several hundred years to about 3,000 years. The first eruptive episode began about 15,000 years ago and the latest ended about 2,100 years ago.

Craters of the Moon holds the most diverse and youngest part of the lava terrain that covers the southern Snake River Plain of Idaho, a broad plain made up of innumerable basalt lava flows during the past 5 million years. The most recent eruptions at the Craters of the Moon took place about 2,100 years ago and were likely witnessed by the Shoshone people, whose legend speaks of a serpent on a mountain who, angered by lightening, coiled around and squeezed the mountain until the rocks crumbled and melted, fire shot from cracks, and liquid rock flowed from the fissures as the mountain exploded. The volcanic field now lies dormant, in the latest of a series of quiet periods that separate the eight eruptive episodes during which the 60 lava flows and 25 cinder cones of this composite volcanic field were formed. Some of the lava flows traveled distances of as much as 43 miles from their vents, and some flows diverged around areas of higher ground and rejoined downstream to form isolated islands of older terrain surrounded by new lava. These areas are called “kipukas.”

The kipukas provide a window on vegetative communities of the past that have been erased from most of the Snake River Plain. In many instances, the expanse of rugged lava surrounding the small pocket of soils has protected the kipukas from people, animals, and even exotic plants. As a result, these kipukas represent some of the last nearly pristine and undisturbed vegetation in the Snake River Plain, including 700-year-old juniper trees and relict stands of sagebrush that are essential habitat for sensitive sage grouse populations. These tracts of relict vegetation are remarkable benchmarks that aid in the scientific study of changes to vegetative communities from recent human activity as well as the role of natural fire in the sagebrush steppe ecosystem.

The Kings Bowl lava field and the Wapi lava field are included in the enlarged monument. The Kings Bowl field erupted during a single fissure eruption on the southern part of the Great Rift about 2,250 years ago. This eruption probably lasted only a few hours to a few days. The field preserves explosion pits, lava lakes, squeeze-ups, basalt mounds, and an ash blanket. The Wapi field probably formed from a fissure eruption simultaneously with the eruption of the Kings Bowl field. With more prolonged activity over a period of months to a few years, the Wapi field formed a low shield volcano. The Bear Trap lava tube, located between the Craters of the Moon and the Wapi lava fields, is a cave system more than 15 miles long. The lava tube is remarkable for its length and for the number of well preserved lava-cave features, such as lava stalactites and curbs, the latter marking high stands of the flowing lava forever frozen on the lava tube walls. The lava tubes and pit craters of the monument are known for their unusual preservation of winter ice and snow into the hot summer months, due to shielding from the sun and the insulating properties of the basalt.

Section 2 of the Act of June 8, 1906 (34 Stat. 225, 16 U.S.C. 431), authorizes the President, in his discretion, to declare by public proclamation historic landmarks, historic and prehistoric structures, and other objects of historic or scientific interest that are situated upon the lands owned or controlled by the Government of the United States to be national monuments, and to reserve as a part thereof parcels of land, the limits of which in all cases shall be confined to the smallest area compatible with the proper care and management of the objects to be protected.

WHEREAS it appears that it would be in the public interest to reserve such lands as an addition to the Craters of the Moon National Monument:

NOW, THEREFORE, I, William J. Clinton, President of the United States of America, by the authority vested in me by section 2 of the Act of June 8, 1906 (34 Stat. 225, 16 U.S.C. 431), do proclaim that there are hereby set apart and reserved as an addition to the Craters of the Moon National Monument, for the purpose of protecting the objects identified above, all lands and interests in lands owned or controlled by the United States within the boundaries of the area described on the map entitled “Craters of the Moon National Monument Boundary Enlargement” attached to and forming a part of this proclamation. The Federal land and interests in land reserved consist of approximately 661,287 acres, which is the smallest area compatible with the proper care and management of the objects to be protected.

All Federal lands and interests in lands within the boundaries of this monument are hereby appropriated and withdrawn from all forms of entry, location, selection, sale, or leasing or other disposition under the public land laws, including but not limited to withdrawal from location, entry, and patent under the mining laws, and from disposition under all laws relating to mineral and geothermal leasing, other than by exchange that furthers the protective purposes of the monument. For the purpose of protecting the objects identified above, the Secretary shall prohibit all motorized and mechanized vehicle use off road, except for emergency or authorized administrative purposes.

Lands and interests in lands within the proposed monument not owned by the United States shall be reserved as a part of the monument upon acquisition of title thereto by the United States.

The Secretary of the Interior shall prepare a transportation plan that addresses the actions, including road closures or travel restrictions, necessary to protect the objects identified in this proclamation.

The Secretary of the Interior shall manage the area being added to the monument through the Bureau of Land Management and the National Park Service, pursuant to legal authorities, to implement the purposes of this proclamation. The National Park Service and the Bureau of Land Management shall manage the monument cooperatively and shall prepare an agreement to share, consistent with applicable laws, whatever resources are necessary to manage properly the monument; however, the National Park Service shall have primary management authority over the portion of the monument that includes the exposed lava flows, and shall manage the area under the same laws and regulations that apply to the current monument. The Bureau of Land Management shall have primary management authority over the remaining portion of the monument, as indicated on the map entitled, “Craters of the Moon National Monument Boundary Enlargement.”

Wilderness Study Areas included in the monument will continue to be managed under section 603(c) of the Federal Land Policy and Management Act of 1976 (43 U.S.C. 1701-1782).

The establishment of this monument is subject to valid existing rights.

Nothing in this proclamation shall be deemed to enlarge or diminish the jurisdiction of the State of Idaho with respect to fish and wildlife management.

This proclamation does not reserve water as a matter of Federal law. Nothing in this reservation shall be construed as a relinquishment or reduction of any water use or rights reserved or appropriated by the United States on or before the date of this proclamation. The Secretary shall work with appropriate State authorities to ensure that water resources needed for monument purposes are available.

Nothing in this proclamation shall be deemed to enlarge or diminish the rights of any Indian tribe.

Laws, regulations, and policies followed by the Bureau of Land Management in issuing and administering grazing permits or leases on all lands under its jurisdiction shall continue to apply with regard to the lands in the monument administered by the Bureau of Land Management.

Nothing in this proclamation shall be deemed to revoke any existing withdrawal, reservation, or appropriation; however, the national monument shall be the dominant reservation.

Warning is hereby given to all unauthorized persons not to appropriate, injure, destroy, or remove any feature of this monument and not to locate or settle upon any of the lands thereof.

IN WITNESS WHEREOF, I have hereunto set my hand this ninth day of November, in the year of our Lord two thousand, and of the Independence of the United States of America the two hundred and twenty-fifth.

wj

Billing code 3195-01-P

[FR Doc. 00-29452

Filed 11-14-00; 8:46 am]

Billing code 3195-01-C